LEGAL SERVICES CORPORATION

Assessing the Goals in the Strategic Plan 2012-2016; Request for Comments; Correction

AGENCY: Legal Services Corporation.

ACTION: Correction notice.

SUMMARY: On January 22, 2016, the Legal Services Corporation (LSC) published a notice in the Federal Register (81 FR 3836) titled “Assessing the Goals in the Strategic Plan 2012-2016; Request for Comments.” The contact information listed in the Supplementary Information section of the previous notice has an incorrect link to LSC's Strategic Plan. This document corrects the notice by correcting the link to LSC's Strategic Plan with the correct web link.

DATES: This correction is effective January 22, 2016.

FOR FURTHER INFORMATION CONTACT: Rebecca Fertig Cohen, Chief of Staff, Legal Services Corporation, 3333 K Street NW., Washington, DC 20007; (202) 295-1576; cohenr@lsc.gov.

SUPPLEMENTARY INFORMATION: The correct link to LSC's Strategic Plan is available at http://www.lsc.gov/about-lsc/who-we-are/strategic-plan.

Dated: January 28, 2016.
Katherine Ward,
Executive Assistant to the Vice President for Legal Affairs and General Counsel.

[FR Doc. 2016-01845 Filed 2-1-16; 8:45 am]

BILLING CODE 7050-01-P